DEPARTMENT OF HOUSING AND URBAN DEVELOPMENT

[Docket No. FR-4912-N-19]

Notice of Intent To Prepare Draft Environmental Impact Statement for Westpark, Bremerton, WA

AGENCY: Office of the Assistant Secretary for Community Planning and Development, HUD.

ACTION: Notice of Intent.

SUMMARY: HUD gives notice to the public, agencies, and Indian tribes that the City of Bremerton, WA, intends to prepare an Environmental Impact Statement (EIS) for the redevelopment of Westpark public housing community located in Bremerton, WA. The City of Bremerton, as the Responsible Entity for compliance with the National Environmental Policy Act (NEPA) in accordance with 24 CFR 58.4, and the Bremerton Housing Authority (BHA), as lead agency for compliance with the Washington State Environmental Policy Act (SEPA, RCW 43.21C) will perform the joint environmental review. This notice is in accordance with regulations of the Council on Environmental Quality at 40 CFR parts 1500-1508. Federal agencies having jurisdiction by law, special expertise, or other special interest should report their interests and indicate their readiness to aid in the EIS effort as a “Cooperating Agency.”

An EIS will be prepared for the proposed action described herein. Comments relating to the scope of the EIS are requested and will be accepted by the contact person listed below.

When the Draft EIS is completed, a notice will be sent to individuals and groups known to have an interest in the Draft EIS and particularly in the environmental impact issues identified therein. Any person or agency interested in receiving a notice and making comment on the Draft EIS should contact the person listed below.

Lead Agencies: This EIS will be a joint National Environmental Policy Act (NEPA) and Washington State Environmental Policy Act (SEPA) document intended to satisfy requirements of federal and state environmental statutes. In accordance with specific statutory authority and HUD's regulations at 24 CFR part 58, HUD has allowed NEPA authority and NEPA lead agency responsibility to be assumed by the City of Bremerton. The BHA is the lead agency for compliance with SEPA.

Comments: All interested agencies, groups, and persons are invited to address written comments related to the scope of the EIS to the address shown below. All comments received by June 28, 2006, will be considered in preparation of the Draft EIS to: (1) Determine significant environmental issues, (2) identify data that the EIS should address, and (3) identify agencies and other parties that will participate in the EIS process and the basis for their involvement.

Particularly solicited is information on reports or other environmental studies planned or completed in the project area, major issues and dates that the EIS should consider, and potential alternatives to the proposed project. Federal agencies having jurisdiction by law, special expertise or other special interest should report their interest and indicate their readiness to aid in the EIS effort as a “ Cooperating Agency.”

FOR FURTHER INFORMATION CONTACT: Chris Hugo, Director, Department of Community Development, City of Bremerton, 345 6th Street, Suite 600, Bremerton, WA 98337; Phone: (360) 473-5275; FAX: (360) 473-5278; e-mail: chris.hugo@ci.bremerton.wa.us.

SUPPLEMENTARY INFORMATION:

A. Background

The Westpark public housing community, built in 1941, is the remnant of a larger World War II-era housing project that was built as temporary housing for shipyard workers. Located on the 80-acre site, which is in west Bremerton, are 631 residential units, a Community Center, Senior Center, Teen Center, Head Start facility, laundry and storage facilities, a maintenance shop, and administrative offices. The 571 public housing units are in primarily single story duplex and fourplex structures. In addition, there is a 60-unit apartment building for elderly and disabled residents, and a 72-unit assisted living facility is under construction.

The proposed redevelopment will be completed in three phases. The Community Center, the apartment building housing elderly and disabled residents, and the assisted living facility will remain. All other structures will be demolished. In addition, much of the existing infrastructure would be replaced. The site would be redeveloped to provide approximately 660 to 900 dwelling units of which about one third would be rental housing and two thirds would be for-sale housing. Some residential units would be in mixed residential and commercial structures, and approximately five acres of the site would be developed for commercial and small retail uses. The rental housing would serve households of very low-income. The proposed redevelopment is consistent with requirements for a mixed-use, mixed-income housing project as defined by HUD.

All existing low-income housing will be replaced either on-site, or elsewhere in Bremerton or Kitsap County. Replacement housing will be provided through construction of public housing units on-site and the use of Section 8 vouchers in off-site housing complexes. Existing residents would be displaced and assisted with benefits according to the provisions of the Uniform Relocation Act. Where possible, displaced residents in good standing would be allowed to return to the public housing units once redevelopment is complete.

B. Need for the EIS

The City of Bremerton and the BHA have determined that the proposed project constitutes an action that has the potential to affect the quality of the human environment and, therefore, requires the preparation of an EIS in accordance with NEPA and SEPA.

C. Alternatives

The alternatives to be considered by the lead agencies will include a no action alternative and a redevelopment alternative to the proposed action. The redevelopment alternative will be finalized after the scoping meeting and conclusion of the written comment period. It may include options related to grading of the site, housing densities, infrastructure replacement and design, storm water management, and/or the amount and location of commercial/retail space.

D. Scoping Meeting

A public EIS scoping meeting will be held on June 22, 2006, starting at 5:30 p.m. at the Westpark Community Center, 79 Russell Road, Bremerton, WA. The EIS scoping meeting will provide an opportunity for the public to learn more about project planning and to provide input to the environmental review process. At the meeting, the public will be able to view graphics illustrating preliminary planning work and the project design team, and ask questions of or provide input to staff from the City of Bremerton and BHA, and members of the consultant team providing technical analysis for to the EIS. Written comments and oral testimony concerning the scope of the EIS will be accepted at this meeting, or by submittal to the City of Bremerton by June 27, 2006.

E. EIS Issues

The lead agencies have preliminarily identified the following environmental elements for discussion in the EIS:

Earth (geology, soils, topography)

• Air Quality;

• Water (surface water movement/quantity, runoff/absorption, flooding, groundwater movement/quantity/quality);

• Plants and Animals;

• Energy Use;

• Noise;

• Land Use and Socioeconomics (land use patterns, relationship to plans/policies and regulations; population; housing and displacements);

• Environmental Justice (disproportionately high and adverse effects on minority and low income populations);

• Historic and Cultural Resources;

• Aesthetics, Light and Glare;

• Parks and Recreation;

• Public Services and Utilities (fire, police, parks/recreation, communications, water, stormwater, sewer, solid waste); and

• Transportation (transportation systems, parking, movement/circulation, traffic hazards).

Questions may be directed to the individual named in this notice under the heading FOR FURTHER INFORMATION CONTACT.

Dated: May 30, 2006.
Nelson R. Bregon,
General Deputy Assistant Secretary for Community Planning and Development.

[FR Doc. E6-8765 Filed 6-6-06; 8:45 am]

BILLING CODE 4210-67-P